DEPARTMENT OF THE INTERIOR

National Park Service

[NPS-WASO-NAGPRA-NPS0024103; PPWOCRADN0-PCU00RP14.R50000]

Notice of Inventory Completion: Wisconsin Historical Society, Madison, WI

AGENCY: National Park Service, Interior.

ACTION: Notice.

SUMMARY: The Wisconsin Historical Society (WHS) has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Wisconsin Historical Society. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Wisconsin Historical Society at the address in this notice by November 16, 2017.

ADDRESSES: Jennifer Kolb, Wisconsin Historical Society, 816 State St., Madison, WI 53706, telephone (608) 264-6434, email Jennifer.Kolb@wisconsinhistory.org.

SUPPLEMENTARY INFORMATION: Notice is here given in accordance with the Native American Graves Protection and Repatriation Act (NAGPRA), 25 U.S.C. 3003, of the completion of an inventory of human remains under the control of the Wisconsin Historical Society, Madison, WI. The human remains were removed from Dickensen Gravel Pit and Krainik Conical site in Juneau County, WI.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Wisconsin Historical Society professional staff in consultation with representatives of the Forest County Potawatomi Community, Wisconsin; Ho-Chunk Nation of Wisconsin; Lac du Flambeau Band of Lake Superior Chippewa Indians of the Lac du Flambeau Reservation of Wisconsin; Menominee Indian Tribe of Wisconsin; and the Upper Sioux Community, Minnesota.

History and Description of the Remains

At an unknown date, human remains representing, at minimum, one individual were removed from Dickensen Gravel Pit (47-JU-0101) in Juneau County, WI. The human remains represent a single adult of indeterminate sex and were donated to the WHS by the County Coroner Clarence R. Sorenson in 1939. A letter written by John Barr in June of 1939 states that the human remains were exhumed by a dentist from New Lisbon at an unstated date from a cultivated field. No known individuals were identified. Charcoal was found with the human remains, but there is no record of it being brought to the WHS. Therefore, no associated funerary objects are present.

At an unknown date, human remains representing, at minimum, one individual were removed from Krainik Conical site (47-JU-0203) in Juneau County, WI. In 1980, Dick Robinson, a local landowner, donated to the WHS a box of items that he and his father had collected from the site over several years. In a letter dated December of 1980, Robinson made no mention of having collected human remains, but WHS employees identified three human long bone fragments representing one adult of indeterminate sex. No known individuals were identified. No associated funerary objects are present.

Determinations Made by the Wisconsin Historical Society

Officials of the Wisconsin Historical Society have determined that:

• Pursuant to 25 U.S.C. 3001(9), the human remains described in this notice are Native American based on Wisconsin Historical Society records, burial location, archeological context, oral histories, and skeletal analysis.

• Pursuant to 25 U.S.C. 3001(9), the human remains described in this notice represent the physical remains of two individuals of Native American ancestry.

• Pursuant to 25 U.S.C. 3001(2), a relationship of shared group identity cannot be reasonably traced between the Native American human remains and any present-day Indian Tribe.

• According to final judgments of the Indian Claims Commission or the Court of Federal Claims, the land from which the Native American human remains were removed is not the aboriginal land of any Indian Tribe, but is near the judicially established aboriginal lands of the Ho-Chunk Nation of Wisconsin and the Winnebago Tribe of Nebraska.

• Treaties, Acts of Congress, or Executive Orders indicate that the land from which the Native American human remains were removed is the aboriginal land of the Ho-Chunk Nation of Wisconsin and the Winnebago Tribe of Nebraska.

• Pursuant to 43 CFR 10.11(c)(1), the disposition of the human remains may be to the Ho-Chunk Nation of Wisconsin and the Winnebago Tribe of Nebraska.

Additional Requestors and Disposition

Representatives of any Indian Tribe or Native Hawaiian organization not identified in this notice that wish to request transfer of control of these human remains should submit a written request with information in support of the request Jennifer Kolb, Wisconsin Historical Society, 816 State St., Madison, WI 53706, telephone (608) 264-6434, by November 16, 2017. After that date, if no additional requestors have come forward, transfer of control of the human remains to the Ho-Chunk Nation of Wisconsin and the Winnebago Tribe of Nebraska may proceed.

The Wisconsin Historical Society is responsible for notifying the Forest County Potawatomi Community, Wisconsin; Ho-Chunk Nation of Wisconsin; Lac du Flambeau Band of Lake Superior Chippewa Indians of the Lac du Flambeau Reservation of Wisconsin; Menominee Indian Tribe of Wisconsin; Winnebago Tribe of Nebraska; and the Upper Sioux Community, Minnesota, that this notice has been published.

Dated: September 5, 2017.
Melanie O'Brien,
Manager, National NAGPRA Program.

[FR Doc. 2017-22426 Filed 10-16-17; 8:45 am]

BILLING CODE 4312-52-P